FEDERAL MARITIME COMMISSION

Ocean Transportation Intermediary License; Rescission of Order of Revocation

Notice is hereby given that the Order revoking the following licenses are being rescinded by the Federal Maritime Commission pursuant to section 19 of the Shipping Act of 1984 (46 U.S.C. chapter 409) and the regulations of the Commission pertaining to the licensing of Ocean Transportation Intermediaries, 46 CFR part 515.

License Number: 4422F.

Name: C & C Group, Inc.

Address: 1928 NW. 82nd Avenue, Miami, FL 33126.

Order Published: FR: 4/20/11 (Volume 76, No. 76, Pg. 22106).

License Number: 017330N.

Name: Geomarine Shipping Inc.

Address : 27 Cambridge Road, East Rockaway, NY 11518.

Order Published: FR: 3/23/11 (Volume 76, No. 56, Pg. 16422).

License Number: 017511N.

Name : Royal Cargo Line, Inc.

Address: 1928 NW. 82nd Avenue, Miami, FL 33126.

Order Published: FR: 5/5/11 (Volume 76, No. 87, Pg. 25692).

Tanga S. FitzGibbon,
Deputy Director, Bureau of Certification and Licensing.

[FR Doc. 2011-11600 Filed 5-11-11; 8:45 am]

BILLING CODE 6730-01-P